DEPARTMENT OF DEFENSE

Office of the Secretary

Notice To Reopen Public Scoping for the Homeland Defense Radar in Hawaii Environmental Impact Statement

AGENCY: Missile Defense Agency, Department of Defense (DoD).

ACTION: Notice of intent.

SUMMARY: The Missile Defense Agency (MDA) announces that it is reopening the public scoping period for the Homeland Defense Radar-Hawaii (HDR-H) Environmental Impact Statement (EIS). MDA will use the additional public scoping input to support preparation of the EIS in accordance with the National Environmental Policy Act (NEPA) of 1969.

DATES: MDA invites public comments on the updated scope of the HDR-H EIS during the 45-day public scoping period beginning with publication of this notice in the Federal Register. Comments will be accepted on or before April 12, 2021 to ensure their consideration in the Draft EIS analysis.

ADDRESSES: Written comments, statements, and/or concerns regarding the scope of the EIS should be addressed to MDA HDR-H EIS and sent by email to mda.hdrh.eis@kfs-llc.com; by facsimile at 256-713-1617; or by U.S. Postal Service to: KFS, LLC, Attn: MDA HDR-H EIS, 303 Williams Ave., Suite 116, Huntsville, AL 35801. Comments will also be accepted via voicemail by calling 1-888-473-6650. All comments, and commenters' names and addresses, will be included in the administrative record.

FOR FURTHER INFORMATION CONTACT: Ms. Heather Cavaliere, MDA Public Affairs at 256-450-1599 or by email to mda.info@mda.mil. Additional information on the project can be found at MDA's website: www.mda.mil/hdrh.

SUPPLEMENTARY INFORMATION: A notice of intent to prepare the EIS for this project was previously published in the Federal Register on June 1, 2018, 83 FR 25442-25443. The purpose for reopening public scoping is to provide opportunity for comment on substantive project changes to previously identified HDR-H alternatives on the island of Oahu, in addition to a new HDR-H alternative on the island of Kauai. MDA is preparing the EIS to evaluate potential environmental impacts that could result from construction and operation of the HDR-H (a radar to identify, track, and classify long-range ballistic missile threats in mid-course flight), an In-Flight Interceptor Communications System Data Terminal or IDT (a facility that provides communication between the Ground-Based Midcourse Defense fire control system and the interceptor, both stationed elsewhere), and associated support facilities and infrastructure. The Proposed Action would also include establishment of restricted airspace for the HDR-H site. The purpose of the Proposed Action is to support the Missile Defense System and enhance homeland defense capabilities for Hawaii. The Fiscal Year (FY) 2017 National Defense Authorization Act (NDAA) requires MDA to develop a plan to construct and operate a “discrimination radar” or equivalent sensor, for a location that will improve homeland missile defense for the defense of Hawaii. A “discrimination radar” is capable of identifying and classifying specific ballistic missile threats. The FY2021 NDAA authorizes MDA to continue Homeland Defense Radar—Hawaii (HDR-H) radar development and siting efforts. The FY 2021 Appropriation bill provided funding to continue these efforts in FY 2021. Therefore, MDA is engaged in Advanced Planning studies and preparing an Environmental Impact Statement (EIS) for the siting and development of the HDR-H, should a deployment decision be made and is funded. The DoD has not yet made a decision on where to deploy the HDR-H and is still in the process of evaluating alternative locations.

During the original public scoping effort, MDA held three public scoping meetings on Oahu between June 19 and June 21, 2018. Due to the ongoing Coronavirus Disease 2019 (COVID-19) public health emergency, and consistent with the Centers for Disease Control and Prevention's guidance regarding large events and mass gatherings, MDA will provide an Online Open House website and hold two Telephone Public Meetings in place of in-person public scoping meetings. The Open House website has been developed to provide the public with HDR-H EIS-related information and the ability to comment on the Proposed Action. Access to this information can be found on MDA's website at www.mda.mil/hdrh. Notification of the public scoping period, Online Open House website, and Telephone Public Meetings will be published and announced in local news media to encourage public participation and review.

In accordance with the current 40 Code of Federal Regulations (CFR) 1501.8, the Department of the U.S. Air Force, Department of the U.S. Army, Department of the U.S. Navy, and Federal Aviation Administration (FAA) have been identified as cooperating agencies in preparing the EIS.

During the 2018 public scoping effort, MDA identified three alternative locations on the island of Oahu for the proposed HDR-H complex, which would consist of multiple buildings and facilities placed within and outside of a restricted fenced area. The overall complex would occupy up to approximately 50 acres and require up to approximately 100 additional acres for temporary construction laydown area and new infrastructure, depending on topographic and environmental conditions. Originally, one HDR-H alternative was identified at Kuaokala Ridge (KR) on state-owned land adjacent to the U.S. Air Force Kaena Point Satellite Tracking Station (KPSTS), while two other alternatives were identified at U.S. Army Kahuku Training Area (KTA) on DoD property and labeled as KTA Site 1 and Site 2. Since 2018, MDA has conducted additional and more intensive siting studies to confirm alternative selection, and optimize facility planning and design. As a result, in 2020 MDA removed both the KR and KTA Site 2 alternatives from further consideration and added a new alternative at the U.S. Navy Pacific Missile Range Facility (PMRF) on DoD property on the island of Kauai. The EIS analysis will include three alternatives: one on Oahu (KTA-1), one on Kauai (PMRF), and a No Action Alternative.

Because operation of the radar would create a hazard in areas of the National Airspace System where high intensity radiated fields (HIRF) would exceed FAA certification standards for aircraft electrical and electronic systems, MDA would coordinate with FAA to establish a Restricted Area within the radar's field-of-view where the flight of aircraft would be restricted.

Operation of the proposed HDR-H radar at the KTA-1 alternative would cause radio frequency interference with the U.S. Air Force Solar Observatory located at KPSTS. Because of the radio frequency interference, selection of the KTA-1 alternative would require the existing Solar Observatory mission to be relocated off island to another military installation in Hawaii and the existing facilities at KPSTS potentially demolished. Alternatives for relocating the Solar Observatory are PMRF on Kauai or the Air Force Research Laboratory Remote Maui Experiment facility situated on privately-owned lands leased to the U.S. Air Force on the island of Maui. Relocation of the Solar Observatory would require approximately one to two acres of privately-owned land for long-term operations. An additional acre of adjacent privately-owned land could be needed as temporary laydown area during Solar Observatory facility construction. Under the HDR-H alternative at PMRF, should it be selected, the existing Solar Observatory on Oahu would not require relocation.

At each HDR-H alternative location, impacts will be assessed for the following resource topics: Airspace management, air quality, biological resources, cultural resources, environmental justice, geology and soils, hazardous materials and waste management, health and safety, infrastructure (utilities), land use, noise and vibration, socioeconomics, transportation, visual resources, and water resources.

This public scoping effort also supports compliance with Section 106 of the National Historic Preservation Act (NHPA) of 1966 and its implementing regulations at 36 CFR part 800. As such, MDA will be conducting consultation with Native Hawaiian Organizations, government officials, and other interested parties regarding historic and cultural resources under Section 106 of the NHPA as appropriate.

MDA encourages all interested members of the public, as well as federal, state, and local agencies to participate in the public scoping process for the preparation of this EIS. The public scoping process assists in determining the scope of issues to be addressed, other alternatives that should be considered, and helps identify significant environmental issues to be analyzed in depth in the EIS.

Dated: February 16, 2021.
Aaron T. Siegel,
Alternate OSD Federal Register Liaison Officer, Department of Defense.

[FR Doc. 2021-03449 Filed 2-25-21; 8:45 am]

BILLING CODE 5001-06-P